DEPARTMENT OF LABOR

Employment and Training Administration

[TA-W-57,397]

Wyeth; Wyeth Pharmaceuticals Health Care Division, Rouses Point, New York; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance on July 20, 2005, applicable to workers of Wyeth, Wyeth Pharmaceuticals, Health Care Division, Rouses Point, New York. The notice was published in the Federal Register on August 26, 2005 (70 FR 50412). The workers are engaged in the production of over the counter medicine.

New information provided by the petitioners show their intention was to apply for all available Trade Act benefits at the time of the filing. Therefore, the Department has made a decision to investigate further to determine if the workers are eligible to apply for Alternative Trade Adjustment Assistance.

Information obtained from the company states that a significant number of workers of the subject firm are age 50 or over, workers have skills that are not easily transferable, and conditions in the industry are adverse.

Review of this information shows that all eligibility criteria under Section 246 of the Trade Act of 1974 (26 U.S.C. 2813), as amended have been met for workers at the subject firm.

Accordingly, the Department is amending the certification to reflect its finding.

The amended notice applicable to TA-W-57,987 is hereby issued as follows:

All workers of Wyeth, Wyeth Pharmaceuticals Division, Health Care Division, Rouses Point, New York, who became totally or partially separated from employment on or after June 3, 2004 through July 20, 2007, are eligible to apply for adjustment assistance under Section 223 of the Trade Act of 1974 and are also eligible to apply for Alternative Trade Adjustment Assistance under Section 246 of the Trade Act of 1974.

Signed at Washington, DC, this 8th day of February 2006.
Elliott S. Kushner,
Certifying Officer, Division of Trade Adjustment Assistance.

[FR Doc. E6-2491 Filed 2-21-06; 8:45 am]

BILLING CODE 4510-30-P